DEPARTMENT OF TRANSPORTATION

Federal Aviation Administration

Quiet Aircraft Technology Incentive for Commercial Air Tour Operators in Grand Canyon National Park

AGENCY: Federal Aviation Administration, Transportation.

ACTION: Release of FAA-held allocations for quiet aircraft technology in Grand Canyon National Park.

SUMMARY: The Moving Ahead for Progress in the 21st Century Act (MAP-21) directs the Administrator of the Federal Aviation Administration (FAA) and the Secretary of the Interior to provide incentives for commercial air tour operators in Grand Canyon National Park that convert to quiet aircraft technology. The FAA holds a limited number of flight allocations that are authorized under 14 CFR part 93, Subpart U, “Special Flight Rules in the Vicinity of Grand Canyon National Park.” The FAA, in consultation with the National Park Service (NPS), intends to provide these allocations to commercial air tour operators that currently hold allocations in proportion to the number of quiet aircraft technology operations that are flown by respective operators in the first six months of calendar year 2014. This is a one-time release of FAA-held allocations that will be available to operators for quiet aircraft technology flights during the 2014 air tour season and beyond. The FAA and NPS are continuing to make progress on additional quiet aircraft technology incentives for commercial air tour operators in Grand Canyon National Park.

FOR FURTHER INFORMATION CONTACT: Keith Lusk—Mailing address: Federal Aviation Administration, P.O. Box 92007, Los Angeles, California 90009-2007. Telephone: (310) 725-3808. Email address: Keith.Lusk@faa.gov.

SUPPLEMENTARY INFORMATION:

I. Authority

1. Sec. 35001(b)(2) in title V of the Moving Ahead for Progress in the 21st Century Act (MAP-21), Public Law 112-141 signed July 6, 2012, directs the Administrator of the Federal Aviation Administration (FAA) and the Secretary of the Interior to provide incentives for commercial air tour operators that convert to quiet aircraft technology (QT), such as increasing the flight allocations for such operators on a net basis consistent with section 804(c) of the National Parks Air Tour Management Act of 2000 (title VIII of Pub. L. 106-181), provided that the cumulative impact of such operations does not increase noise at Grand Canyon National Park (“the park”). Appendix A of 14 CFR Part 93, Subpart U, “Special Flight Rules in the Vicinity of Grand Canyon National Park,” contains procedures for determining the QT designation for aircraft in the park.

2. Under 14 CFR Part 93, Subpart U, an allocation is defined as authorization to conduct a commercial air tour in the Grand Canyon National Park Special Flight Rules Area (SFRA). Sec. 93.319 and 93.321 provide for the authorized annual number and the management of allocations, and Sec. 93.325 requires air tour operators to file quarterly reports with the FAA and specifies the content of those reports. Since the effective date of this regulation, a limited number of authorized annual allocations have reverted from commercial air tour operators to the FAA.

3. This Federal Register Notice announces the FAA's intent, in consultation with the NPS, to release the allocations it currently holds, amounting to 49 allocations in the Dragon and Zuni Point corridors of the park and 1672 allocations elsewhere in the park SFRA, to commercial air tour operators that currently hold allocations in proportion to the number of QT operations that are flown by the respective operators in these areas during the first six months of calendar year 2014. These allocations are within the total annual number that are authorized to be flown in the Dragon and Zuni Point corridors and elsewhere in the SFRA, respectively, under 14 CFR Part 93, Subpart U. They will be used for operations using QT, as defined in Appendix A of 14 CFR Part 93, Subpart U.

II. Description of Quiet Aircraft Technology Incentive

1. The FAA currently holds 49 out of a total of 44,960 annual allocations authorized to be flown by commercial air tour operators in the Dragon and Zuni Point corridors of the park and 1672 out of a total of 49,011 annual allocations authorized to be flown elsewhere in the SFRA. The FAA intends to provide these allocations to commercial air tour operators that currently hold allocations in proportion to the number of QT operations that are flown by the respective operators in these areas of the park during the first six months of 2014. Consistent with Sec. 93.321(b)(4)(ii), allocations provided in the Dragon and Zuni Point corridors may be transferred for use outside of these corridors, while allocations provided for use elsewhere in the SFRA may not be transferred into the Dragon and Zuni Point corridors.

2. Consistent with the FAA and NPS approach to QT incentives, the FAA has selected the first six months of calendar year 2014 as the basis for the release of FAA held allocations to recognize the progress made to date by operators that have already invested in QT and to encourage additional QT operations in 2014. The FAA will use the first and second quarter operator reports required under Sec. 93.325 to determine the numbers of QT operations by each operator in the Dragon and Zuni Point corridors and elsewhere in the SFRA, respectively. An operation will be considered QT if conducted in an aircraft that meets the noise limits identified in Appendix A of 14 CFR Part 93, Subpart U. Aircraft meeting those noise limits are listed in Appendices I and II of FAA Advisory Circular AC-93-2, “Noise Levels for Aircraft Used for Commercial Operations in Grand Canyon National Park Special Flight Rules Area.” The FAA's receipt of the second quarter reports, due by the end of July, will enable the FAA to complete its analysis and provide its allocations by September to round out the 2014 air tour season. In the FAA's experience, additional allocations have not been needed by operators earlier than September. This is a one-time release of FAA-held allocations that will be available to operators for quiet aircraft technology flights during the 2014 air tour season and beyond. The additional allocations and the condition that they be used for QT operations will be reflected in the operations specifications of individual operators.

III. Environmental Considerations

As provided in MAP-21, the cumulative impact of operations using FAA-held allocations does not increase noise at the park. The 49 FAA allocations in the Dragon and Zuni Point corridors are 0.1% of the total 44,960 allocations authorized in those corridors. The 1672 FAA allocations comprise 3.4% of the total 49,011 allocations authorized elsewhere in the SFRA. In addition, there are 254,013 air tour operations authorized as of 2013 under contract with the Hualapai tribe that are exempt from allocations—bringing the total authorized number of air tour operations in the park to 347,984. The 1721 total FAA allocations are 0.5% of the total 347,984 authorized air tour operations. Analysis shows that such a small number of QT operations on existing routes will not cumulatively increase noise at the park and will not diminish the substantial restoration of natural quiet. The provision of FAA-held allocations to commercial air tour operators through amendments to their operations specifications is categorically excluded from more detailed environmental review.

Issued in Hawthorne, CA on: January 28, 2014.
Dale Bouffiou,
Deputy Regional Administrator, Western-Pacific Region, Federal Aviation Administration.

[FR Doc. 2014-02184 Filed 1-31-14; 8:45 am]

BILLING CODE 4910-13-P